DEPARTMENT OF LABOR

Employment and Training Administration

[TA-W-52,391]

General Electric Company, Industrial Systems Division, Mebane, NC; Notice of Termination of Investigation

Pursuant to Section 221 of the Trade Act of 1974, as amended, an investigation was initiated on July 25, 2003 in response to a worker petition filed on behalf of workers at General Electric Company, Industrial Systems Division, Mebane, North Carolina.

The petitioning group of workers is covered by an active certification issued on July 17, 2003 and which remains in effect (TA-W-52,163). Consequently, further investigation in this case would serve no purpose, and the investigation has been terminated.

Signed at Washington, DC, this 29th day of July, 2003.
Linda G. Poole,
Certifying Officer, Division of Trade Adjustment Assistance.

[FR Doc. 03-20721 Filed 8-13-03; 8:45 am]

BILLING CODE 4510-30-P